DEPARTMENT OF TRANSPORTATION

Federal Railroad Administration

Program for Capital Grants for Rail Line Relocation and Improvement Projects

AGENCY: Federal Railroad Administration (FRA), Department of Transportation (DOT).

ACTION: Notice of funding availability.

SUMMARY: Under this Notice, the FRA encourages eligible applicants to submit applications for grants to fund eligible rail line relocation and improvement projects. This Notice of Funds Availability (NOFA) does not apply to the 27 projects specifically enumerated in the Consolidated Appropriations Act, 2010 (Pub. L. 111-117 (December 16, 2009)) or the 23 projects specifically enumerated in the Omnibus Appropriations Act, 2009 (Pub. L. 111-8 (March 11, 2009)).

DATES: Applications for funding under this solicitation are due no later than 5 p.m. EDT, October 29, 2010 and must be submitted via Grants.gov. See Section 3 for additional information regarding the application process. FRA reserves the right to modify this deadline.

FOR FURTHER INFORMATION CONTACT: For further information regarding this notice and the grants program, please contact John Winkle via e-mail at John.Winkle@dot.gov, or by mail: U.S. Department of Transportation, Federal Railroad Administration, 1200 New Jersey Avenue, SE., MS-20, Washington, DC 20590 Att'n: John Winkle.

Table of Contents

1. Financial Assistance Description

2. Eligibility Information

3. Application and Submission Information

4. Application Review Information

5. Award Administration Information

Appendix 1: Administrative and National Policy Requirements

Appendix 2: Additional Information on Award Administrations and Grant Conditions

Appendix 3: Additional Information on Applicant Budgets

Section 1: Financial Assistance Description

1.1 Authority

The authority for the Program can be found in 49 U.S.C. 20154 and at 49 CFR Part 262.

1.2 Program Description and Legislative History

To assist State and local governments, Congress in the Safe, Accountable, Flexible, Efficient Transportation Act: A Legacy for Users (SAFETEA-LU) (Public Law 109-59, August 10, 2005) authorized the Program for Capital Grants for Rail Line Relocation and Improvement Projects (Program). Section 9002 of SAFETEA-LU amended chapter 201 of Title 49 of the United States Code by adding § 20154, which authorized, but did not appropriate, $350,000,000 per year for each of the fiscal years 2006 through 2009 for the purpose of funding the Program (Catalog of Federal Domestic Assistance (CFDA) Program Number 20.320). SAFETEA-LU also directed FRA to promulgate a regulation that establishes the Program. That final rule was published on July 11, 2008 and can be found at 73 FR 39875 (49 CFR Part 262).

In Fiscal Year (FY) 2009, Congress appropriated $25,000,000 and directed that $17,100,000 be awarded to 23 specific projects, with $7,900,000 left over for discretionary grants. Subsequently, in FY 2010, Congress appropriated $34,532,000 for the Program, and directed that $24,519,200 go to 27 specifically enumerated projects. The remaining $10,012,800 will be combined with the $589,700 remaining from the FY 2008 competition, $2,000,000 that was awarded to one of the FY 2008 projects but which the project sponsors ultimately turned down, and the $7,900,000 in FY 2009 discretionary funding. As a result, FRA has a total of $20,502,500 available for the FY 2010 competition. This NOFA does not apply to the 23 specific projects identified in FY 2009 or the 27 specific projects identified in FY 2010.

1.3 Funding Approach

The Omnibus Appropriations Act, 2009, provided $7,900,000 for discretionary grants. Likewise, the Transportation, Housing and Urban Development, and Related Agencies Appropriations Act, 2010, provided $10,012,800. As discussed above, FRA is combining these amounts with $589,700 remaining from the FY 2008 competition and $2,000,000 that was awarded under the FY 2008 competition to a project that ultimately was declined by the project sponsors, and will award up to $20,502,500 in discretionary grants. The funding provided under these grants will be made available to grantees on a reimbursement basis. As in FY 2008, FRA expects that the available funding will support multiple project applications. FRA may choose to award a grant or grants within the available funds in any amount.

An approved applicant, or other non-Federal party, must pay at least 10 percent of the costs of any project funded by a grant awarded through the Program. Applicants should indicate whether funding made available through grants provided under this Program, together with committed funding from other sources, including the required match, will be sufficient to complete the overall project or a discrete portion of the project. FRA expects to award grants to multiple eligible participants.

Section 2: Eligibility Information

Applications for rail line relocation and improvement projects will be required to meet minimum requirements related to applicant eligibility, project eligibility, and the fulfillment of other prerequisites. To the extent that an application's substance exceeds the minimum eligibility requirements described below, such qualifications will be considered in evaluating the merits of an application.

2.1 Eligible Applicant Types

Only States, political subdivisions of States, and the District of Columbia are eligible for grants under the Program (see 49 CFR 262.3 and 262.7). FRA considers political subdivisions of States to be entities such as cities, counties, townships, boroughs, and villages. If an applicant is not one of these traditional political subdivisions, then the applicant must prove to FRA's satisfaction that, under the applicable State law, the applicant is a political subdivision of the State.

In making this determination, FRA will look primarily to the intent of the State legislature when creating the entity. Thus, FRA will likely find persuasive enabling legislation establishing the entity if the legislation states clearly that the entity is a political subdivision of the State. Similarly, FRA will also consider State appellate court opinions where the court finds that the entity is a political subdivision of the State. Opinions from the State Attorney General also may be used to bolster the above authorities. If nothing conclusively states that the entity is a political subdivision of the State, FRA will review all submitted information and attempt to determine legislative intent. If applicant eligibility is a potential issue, the applicant is encouraged to contact FRA before submitting an application and FRA will make an eligibility determination.

2.2 Cost Sharing and Matching

An approved applicant, or other non-Federal party, must pay at least 10 percent of the costs of any project funded by a grant awarded through the Program. Applicants must specify the match amount in their application.

2.3 Eligible Projects

In accordance with SAFETEA-LU, eligible projects are construction projects undertaken for the improvement of the route or structure of a rail line that either: (1) Are carried out for the purpose of mitigating the adverse effects of rail traffic on safety, motor vehicle traffic flow, community quality of life, or economic development; or (2) involve a lateral or vertical relocation of any portion of the rail line (see 49 CFR 262.7).

FRA wants to emphasize that in order for the project to be eligible, the rail line must be the element that is moved or improved. Grade separation projects that involve raising or lowering the road, for example are not eligible. Similarly, quiet zone and stand-alone grade crossing improvement projects are not eligible. Likewise, station improvement projects where there is little or no related track work are not eligible. As explained in the Final Rule, if station or grade crossing improvements are part of an otherwise eligible rail line relocation or improvement project, then the costs associated with the grade crossing or station work may be eligible (see 73 FR 39879). The majority of the work must involve relocating or improving a rail line. Finally, if an applicant is undertaking a larger project that would be eligible, but is applying to FRA for funding for a small portion that is not eligible (e.g., an applicant is undertaking a large rail improvement involving upgrading grade crossing equipment and applies to FRA for funds to cover the grade crossing improvements), the fact that the larger project would be eligible does not mean that FRA can fund the smaller, ineligible project. If project eligibility is a potential issue, applicants are encouraged to contact FRA before submitting an application and FRA will make an eligibility determination.

Pre-construction activities, such as preliminary engineering and design work and project-level environmental compliance, are considered part of the overall construction project (see 49 CFR 262.3(6)). Because section 9002 of SAFETEA-LU directs that only construction costs are eligible costs, activities such as planning studies and feasibility analyses are not eligible costs.

Section 3: Application and Submission Information

3.1 Applying Online

Applications for these funds must be submitted through Grants.gov by 5 p.m. EDT on October 29, 2010. Applicants are strongly encouraged to apply early to ensure that all materials are received before this deadline.

To apply for funding through Grants.gov, applicants must be properly registered. Complete instructions on how to register and submit an application can be found at Grants.gov.

Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension.

In order to apply for funding under this announcement and to apply for funding through Grants.gov, all applicants are required to complete the following:

1. Acquire a DUNS Number. A Data Universal Numbering System (DUNS) number is required for Grants.gov registration. The Office of Management and Budget requires that all businesses and nonprofit applicants for Federal funds include a DUNS number in their applications for a new award or renewal of an existing award. A DUNS number is a unique nine-digit sequence recognized as the universal standard for identifying and keeping track of entities receiving federal funds. The identifier is used for tracking purposes and to validate address and point of contact information for Federal assistance applicants, recipients, and sub recipients. The DUNS number will be used throughout the grant life cycle. Obtaining a DUNS number is a free, one-time activity. Applicants may obtain a DUNS number by calling 1-866-705-5711 or by applying online at http://www.dnb.com/us.

2. Acquire or Renew Registration with the Central Contractor Registration (CCR) Database. All applicants for Federal financial assistance maintain current registrations in the Central Contractor Registration (CCR) database. An applicant must be registered in the CCR to successfully register in Grants.gov. The CCR database is the repository for standard information about Federal financial assistance applicants, recipients, and sub recipients. Organizations that have previously submitted applications via Grants.gov are already registered with CCR, as it is a requirement for Grants.gov registration. Please note, however, that applicants must update or renew their CCR registration at least once per year to maintain an active status, so it is critical to check registration status well in advance of the application deadline. Information about CCR registration procedures can be accessed at http://www.ccr.gov.

3. Acquire an Authorized Organization Representative (AOR) and a Grants.gov Username and Password. Applicants must complete an AOR profile on Grants.gov and create a username and password. Applicants must use the organization's DUNS number to complete this step. Additional information about the registration process is available at http://www.grants.gov/applicants/get_registered.jsp.

4. Acquire Authorization for your AOR from the E-Business Point of Contact (E-Biz POC). The Applicant's E-Biz POC must log in to Grants.gov to confirm a representative as an AOR. Please note that there can be more than one AOR at an organization.

5. Search for the Funding Opportunity on Grants.gov. The Catalog of Federal Domestic Assistance (CFDA) number for this opportunity is 20.320. It is titled “Rail Line Relocation and Improvement.”

6. Submit an Application Addressing All of the Requirements Outlined in this Funding Availability Announcement. Within 24 to 48 hours after submitting an electronic application, an applicant should receive an e-mail validation message from Grants.gov. The validation message will explain whether the application has been received and validated or rejected, with an explanation. Applicants are urged to submit an application at least 72 hours prior to the due date of the application to allow time to receive the validation message and to correct any problems that may have caused a rejection notification.

If you experience difficulties at any point during this process, please call the Grants.gov Customer Center Hotline at 1-800-518-4726, 24 hours a day, 7 days a week (closed on Federal holidays).

Note: Please use generally accepted formats such as .pdf, .doc, .docx, .xls, .xlsx and .ppt, when uploading attachments. While applicants may imbed picture files, such as .jpg, .gif, and .bmp, in document files, please do not submit attachments in these formats. Additionally, the following formats will not be accepted: .com, .bat, .exe, .vbs, .cfg, .dat, .db, .dbf, .dll, .ini, .log, .ora, .sys, and .zip.

3.2 Address To Request/Submit Application Package

To request a hard copy of the application package, please contact John Winkle, Office of Railroad Policy and Development (RPD-11), Federal Railroad Administration, 1200 New Jersey Avenue, SE., Room W38-311, Washington, DC 20590. Phone: (202) 493-6360; Fax: (202) 493-6333; E-mail: John.Winkle@DOT.gov.

Any additional required attachments that an applicant is unable to submit via Grants.gov, such as oversized engineering drawings, may be submitted to the above address. Applicants should submit one original and two (2) copies of the material. However, due to delays caused by enhanced screening of mail delivered via the U.S. Postal Service, applicants are advised to use other means of conveyance (such as courier service) to assure timely receipt of materials.

3.3 Content of Application

3.3.1 On-Line Application

The on-line application must be completed and submitted using Grants.gov after Central Contractor Registry (CCR) registration is confirmed. The on-line application includes the following required forms and submissions:

Construction Projects:

• Standard Form 424, Application for Federal Assistance

• Standard Form 424C, Budget Information—Construction

• Standard Form 424D, Assurances—Construction Programs

• FRA's Additional Assurance and Certifications, available at http://www.fra.dot.gov/downloads/admin/assurancesandcertifications.pdf

• Project Narrative/Statement of Work (described in 3.4.1 below)

• Detailed Budget (described in 3.4.2 below)

• NEPA Documentation, as applicable

Non-Construction Projects:

• Standard Form 424, Application for Federal Assistance

• Standard Form 424A, Budget Information—Non-Construction Programs

• Standard Form 424B, Assurances—Non-Construction Programs

• FRA's Additional Assurance and Certifications, available at http://www.fra.dot.gov/downloads/admin/assurancesandcertifications.pdf

• Project Narrative/Statement of Work (described in 3.4.1 below)

• Detailed Budget (described in 3.4.2 below)

Any additional required attachments (for application materials that an applicant is unable to submit via Grants.gov), such as oversized engineering drawings, applicants may submit an original and two (2) copies to the Federal Railroad Administration, Attention: John Winkle, Office of Railroad Policy and Development (RPD-11), Room W38-311, 1200 New Jersey Avenue, SE., Washington, DC 20590.

3.4 Detailed Application Requirements

3.4.1 Project Narrative/Statement of Work

The following points describe the minimum content which will be required in the project narrative/statement of work elements of grant applications. These requirements may be satisfied through a narrative statement submitted by the applicant, supported by spreadsheet documents, tables, drawings, and other materials, as appropriate. FRA recommends that applicants read this section carefully and submit all required information. If an application does not address each of these requirements to FRA's satisfaction, the application will be considered incomplete and will not be scored. Applicants should send an e-mail message to paxrail@dot.gov confirming that an application was submitted. Each grant application must:

1. Designate a point of contact for the applicant and provide his or her name and contact information, including phone number, mailing address and e-mail address. The point of contact must be an employee of an eligible applicant (i.e., a State employee, or an employee of a political subdivision of a State, or an employee of the District of Columbia).

2. Include a detailed project description with an explanation of how the project is an eligible project.

3. Include a thorough discussion of how the project meets all of the selection criteria. Applicants should note that FRA evaluates applications based upon the selection criteria. If an application does not sufficiently address the selection criteria, FRA will have little or no basis on which to evaluate the application; thus, it will likely not be a competitive application. The selection criteria are described in detail in Section 4.1, below.

4. Explain how the applicant is an eligible applicant. For a full discussion of how an applicant can meet this burden, see Eligible Participants, above.

5. Provide a detailed scope of work for the proposed project and include the anticipated project schedule. Describe the proposed project's physical location (as applicable), and include any drawings, plans, or schematics that have been prepared relating to the proposed project. If the funding from the Program is only going to be a component of the overall funding for the project, describe the complete project and specify which component will involve FRA funding. Applications should include feasibility determinations and cost estimates, if completed. FRA will more favorably consider applications that include these types of studies, as they demonstrate that an applicant has a definite understanding of the scope and cost of the project. In submitting applications, applicants should be mindful that the Program, as created by Congress and, as further described in the Final Rule, is focused upon construction projects (see 49 CFR §§ 262.3 and 262.7). If FRA approves a project for funding, allowable costs (i.e., costs that can qualify for reimbursement from Federal funds or as part of the required non-Federal match) will have to directly support project construction. Section 262.3 identifies the types of activities that are associated with “construction” and thus are potentially allowable. In terms of project development, FRA will consider as potentially allowable any costs associated with the preparation of architectural and engineering plans, project cost estimates, and project-specific construction-related costs (including costs associated with securing environmental clearance as described in § 262.15 of the Final Rule). As discussed above under “Eligible Projects,” FRA will not consider as potentially allowable any costs associated with planning studies and similar analyses. For approved projects, construction-related expenditures may qualify as allowable, even if they are incurred in advance of the execution of the grant agreement between the applicant and FRA, provided they otherwise satisfy eligibility standards.

6. Describe proposed project implementation and project management arrangements. Include descriptions of expected arrangements for project contracting, contract oversight, change-order management, risk management, and conformance to Federal requirements for project progress reporting.

7. Describe the anticipated public and private benefits associated with the proposed project and the applicant's assessment of how those benefits outweigh the costs of the proposed project (see 49 CFR 262.11(b)). Identify any financial contributions or commitments the applicant has secured from private entities that are expected to benefit from the project. Although FRA will weigh all of the selection criteria, potential applicants should be aware that FRA is seeking the maximum public benefit from these limited funds. Moreover, in directing FRA to establish the Program, Congress instructed FRA to consider the feasibility of seeking financial contributions or commitments from private entities involved with projects in proportion to the expected benefits that would accrue to those entities. As FRA explained in the preamble to the Final Rule, however, FRA will apply all the selection criteria and will not disfavor one application over another because of the amount requested.

8. Describe anticipated environmental or historic preservation impacts associated with the proposed project, any environmental or historic preservation analyses that have been prepared, and progress toward completing any environmental documentation or clearance required for the proposed project under the National Environmental Policy Act (NEPA), the National Historic Preservation Act (NHPA), section 4(f) of the DOT Act, the Clean Water Act, or other applicable Federal or State laws. Refer to 49 CFR § 262.15 for further guidance.

Generally, grant recipients may not expend any of the funds provided in an award on construction or other activities that represent an irretrievable commitment of resources to a particular course of action affecting the environment until after all environmental and historic preservation analyses required by the NEPA, the NHPA (16 U.S.C. 470(f)), and related laws and regulations have been completed and FRA has provided the grant recipient with a written notice authorizing them to proceed.

In instances where NEPA approval has not been secured at the time of grant award, grant recipients are required to assist FRA in its compliance with the provisions of NEPA, the Council on Environmental Quality's regulations implementing NEPA (40 CFR part 1500 et seq.), FRA's “Procedures for Considering Environmental Impacts” (45 FR 40854, June 16, 1980, as revised May 26, 1999, 64 FR 28545), Section 106 of the NHPA, and related environmental and historic preservation statutes and regulations. As a condition of receiving financial assistance under an award, grant recipients may be required to conduct certain environmental analyses and to prepare and submit to FRA draft documents required under NEPA, NHPA, and related statutes and regulations.

No publicly-owned land from a park, recreational area, or wildlife or waterfowl refuge of national, State, or local significance as determined by the Federal, State, or local officials having jurisdiction thereof, or any land from an historic site of national, State, or local significance as so determined by such officials shall be used by grant recipients without the prior written concurrence of FRA. Grant recipients shall assist FRA in complying with these requirements of 49 U.S.C. 303(c).

Applicants are advised to consult with the FRA's Office of Railroad Policy and Development before initiating any NEPA, NHPA or Section 4(f) environmental or historic preservation reviews.

9. Format: Excluding spreadsheets, drawings, and tables, the Project Narrative/Statement of Work for grant applications may not exceed 35 pages in length. FRA will not consider any application that includes a narrative that exceeds 35 pages. With the exclusion of oversized engineering drawings (which may be submitted in hard copy to the FRA at the address above), all application materials should be submitted as attachments through Grants.Gov. Spreadsheets consisting of budget or financial information should be submitted via Grants.Gov as Microsoft Excel (or compatible) documents.

3.4.2 Detailed Budget

Applicants must present a detailed budget for the proposed project that includes both Federal funds and matching funds. Items of cost included in the budget must be reasonable, allocable and necessary for the project.

For a construction project, at a minimum, the budget should separate total cost of the project into the following categories, if applicable: (1) Administrative and legal expenses; (2) Land, structures, rights-of-way, and appraisals; (3) Relocation expenses and payments; (4) Architectural and engineering fees; (5) Project inspection fees; (6) Site work; (7) Demolition and removal; (8) Construction labor, supervision, and management; (9) Materials, by type (e.g. ties, rail, signals, switches); (10) Miscellaneous; and (11) Contingencies.

For a non-construction project, at a minimum, the budget should separate total cost of the project into the following categories, if applicable: (1) Personnel; (2) Fringe Benefits; (3) Travel; (4) Equipment; (5) Supplies; (6) Consultants/Contracts; (7) Other; and (8) Indirect Costs.

See Appendix 3 of this solicitation for more information on project budgets.

3.4.3 Submission Dates and Times

Complete applications must be submitted to Grants.gov (as specified in Section 3.1) no later than 5 p.m. EDT, October 29, 2010. Grants.gov will send the applicant an automated e-mail confirming receipt of the application. Supporting documentation that cannot be submitted electronically may be sent by courier service with a waybill receipt stamped no later than 5 p.m. EDT, October 29, 2010. FRA will e-mail the applicant to confirm receipt of supporting documentation sent by courier service.

Subject to demonstration of unanticipated extenuating circumstances, FRA may, but is not obligated to, consider application materials submitted after the deadlines prescribed above.

FRA reserves the right to contact applicants with any concerns, questions, or comments related to applications.

3.4.4 Intergovernmental Review

Executive Order 12372 requires applicants from State and local units of government or other organizations providing services within a State to submit a copy of the application to the State Single Point of Contact (SPOC), if one exists, and if this program has been selected for review by the State. Applicants must contact their State SPOC to determine if the program has been selected for State review. Executive Order 12372 can be referenced at http://www.fws.gov/policy/library/rgeo12372.pdf. The names and addresses of the SPOCs are listed on OMB's home page available at http://www.whitehouse.gov/omb/grants/spoc.html.

Section 4: Application Review Information

4.1 Selection Criteria

FRA will consider the following selection factors in evaluating applications for grants under this program (see 49 CFR 262.9):

1. The capability of the applicant to fund the project without Federal grant funding;

2. The effects of the rail line, relocated or improved as proposed, on motor vehicle and pedestrian traffic, safety, community quality of life, and area commerce;

3. The effects of the rail line, relocated, or improved as proposed, on the freight rail and passenger rail operations on the line;

4. Equitable treatment of the various regions of the United States;

5. Any other factors FRA determines to be relevant in assessing the effectiveness and/or efficiency of the grant application, including the cost-effectiveness of the proposed project in terms of benefits achieved in relation to the funds expended. In the preamble to the Final Rule, FRA provided an extensive, but not exhaustive, list of possible data items that could be used to support a cost-effectiveness determination. That list can be found at 73 FR 39875.

Section 5: Award Administration Information

5.1 Award Notices

Should FRA select a project for funding, notification of application approval is made through the GrantSolutions (GS) system. Selectees should follow the directions in the notification and log into GS to access the award document. The authorized grantee official should carefully read the award and terms/conditions documents. The grantee must either accept or decline the award in GS.

The period of performance for this grant program is dependent on the project. However, any unobligated funds will be deobligated at the end of the 90 day close-out period, provided for in Appendix 2.4. Extensions to the period of performance will be considered only through written requests to FRA with specific and compelling justifications why an extension is required.

5.2 Administrative and National Policy Requirements

The grantee and any subgrantee shall comply with all applicable laws and regulations. For a non-exclusive list of regulations commonly applicable to FRA grants refer to Appendix 1.

5.3 General Requirements

Grant recipients must comply with reporting requirements. All post-award information pertaining to reporting, auditing, monitoring, and the close-out process is detailed in Appendix 2.

Appendix 1: Administrative and National Policy Requirements

Appendix 1.1 Standard Financial Requirements

Administrative Requirements

• 49 CFR Part 18, Uniform Administrative Requirements for Grants and Cooperative Agreements to State and Local Governments

• 49 CFR Part 19, Uniform Administrative Requirements for Grants and Cooperative Agreements with Institutions of Higher Education, Hospitals, and Other Non-Profit Organizations (OMB Circular A-110)

Cost Principles

• 2 CFR Part 225, Cost Principles for State, Local, and Indian Tribal Governments (OMB Circular A-87)

• 2 CFR Part 220, Cost Principles for Educational Institutions (OMB Circular A-21)

• 2 CFR Part 230, Cost Principles for Non-Profit Organizations (OMB A-122)

• Federal Acquisition Regulations (FAR), Part 31.2 Contract Cost Principles and Procedures, Contracts with Commercial Organizations

Audit Requirements

• OMB Circular A-133, Audits of States, Local Governments, and Non-Profit Organizations

Appendix 1.2 Administrative and National Policy Requirements

Grant recipients must follow all administrative and national policy requirements including: procurement standards, compliance with Federal civil rights laws and regulations, disadvantaged business enterprises (DBE), debarment and suspension, drug-free workplace, FRA's and OMB's Assurances and Certifications, Americans with Disabilities Act (ADA), Buy America, environmental protection, National Environmental Policy Act (NEPA), and environmental justice.

Appendix 1.3 Freedom of Information Act (FOIA)

As a Federal agency, FRA is subject to the Freedom of Information Act (FOIA) (5 U.S.C. 552), which generally provides that any person has a right, enforceable in court, to obtain access to Federal agency records, except to the extent that such records (or portions of them) are protected from public disclosure by one of nine exemptions or by one of three special law enforcement record exclusions. Grant applications and related materials submitted by applicants pursuant to this guidance will become agency records, and thus are subject to the FOIA and to public release through individual FOIA requests. FRA also recognizes that certain information submitted in support of an application for funding in accordance with this guidance could be exempt from public release under FOIA as a result of the application of one of the FOIA exemptions, most particularly Exemption 4, which protects trade secrets and commercial or financial information obtained from a person that is privileged or confidential (5 U.S.C. 552(b)(4)). In the context of this grant program, commercial or financial information obtained from a person could be confidential if disclosure is likely to cause substantial harm to the competitive position of the person from whom the information was obtained (see National Parks & Conservation Ass'n v. Morton, 498 F.2d 765, 770 (D.C. Cir. 1974)). Entities seeking exempt treatment must provide a detailed statement supporting and justifying the request and should follow FRA's existing procedures for requesting confidential treatment in the railroad safety context found at 49 CFR 209.11. As noted in the Department's FOIA implementing regulation (49 CFR part 7), the burden is on the entity requesting confidential treatment to identify all information for which exempt treatment is sought and to persuade the agency that the information should not be disclosed (see 49 CFR 7.17). The final decision as to whether the information meets the standards of Exemption 4 rests with FRA.

Appendix 2: Additional Information on Award Administration and Grant Conditions

Appendix 2.1 Reporting Requirements

Reporting requirements must be met throughout the life of the grant (refer to the program guidance and the special/general provisions found in the award package for a full explanation of these requirements).

• Progress Reports—Progress reports are to be submitted quarterly. These reports must relate the state of completion of items in the Statement of Work to expenditures of the relevant budget elements. The grant recipient must furnish the quarterly progress report to the FRA on or before the 30th calendar day of the month following the end of the quarter being reported. Grantees must submit reports for the periods: January 1-March 31, April 1-June 30, July 1-September 30, and October 1-December 31. Each quarterly report must set forth concise statements concerning activities relevant to the project, and should include, but not be limited to, the following: (a) An account of significant progress (findings, events, trends, etc.) made during the reporting period; (b) a description of any technical and/or cost problem(s) encountered or anticipated that will affect completion of the grant within the time and fiscal constraints as set forth in the agreement, together with recommended solutions or corrective action plans (with dates) to such problems, or identification of specific action that is required by the FRA, or a statement that no problems were encountered; and (c) an outline of work and activities planned for the next reporting period.

• Quarterly Federal Financial Report (SF-425)—The Grantee must submit a quarterly Federal financial report electronically in the GrantSolutions system, on or before the thirtieth (30th) calendar day of the month following the end of the quarter being reported (e.g., for quarter ending March 31, the SF-425 is due no later than April 30). A report must be submitted for every quarter of the period of performance, including partial calendar quarters, as well as for periods where no grant activity occurs. The Grantee must use SF-425, Federal Financial Report, in accordance with the instructions accompanying the form, to report all transactions, including Federal cash, Federal expenditures and unobligated balance, recipient share, and program income.

• Interim Report(s)—If required, interim reports will be due at intervals specified in the Statement of Work and must be submitted to FRA.

• Final Report(s)—Within 90 days of the Project completion date or termination by FRA, the Grantee must submit a Summary Project Report in the GrantSolutions system. This report should detail the results and benefits of the Grantee's improvement efforts.

• Reports, Presentations and Other Deliverables—Whether for technical examination, administrative review, or publication, all submittals shall be of a professional quality and suitable for their intended purpose. Due dates for submittals shall be based on the specified intervals or days from the effective date of the agreement.

Appendix 2.2 Audit Requirements

Grant recipients that expend $500,000 or more of Federal funds during their fiscal year, combined from all sources, are required to submit an organization-wide financial and compliance audit report. The audit must be performed in accordance with U.S. General Accountability Office, Government Auditing Standards, located at http://www.gao.gov/govaud/ybk01.htm, and OMB Circular A-133, Audits of States, Local Governments, and Non-Profit Organizations, located at http://www.whitehouse.gov/omb/circulars/a133/a133.html. Currently, audit reports must be submitted to the Federal Audit Clearinghouse no later than nine months after the end of the recipient's fiscal year. In addition, FRA and the Comptroller General of the United States must have access to any books, documents, and records of grant recipients for audit and examination purposes. The grant recipient will also give FRA or the Comptroller, through any authorized representative, access to, and the right to examine all records, books, papers or documents related to the grant. Grant recipients must require that sub-grantees comply with the audit requirements set forth in OMB Circular A-133. Grant recipients are responsible for ensuring that sub-recipient audit reports are received and for resolving any audit findings.

Appendix 2.3 Monitoring Requirements

Grant recipients will be monitored periodically by FRA to ensure that the project goals, objectives, performance requirements, timelines, milestones, budgets, and other related program criteria are being met. FRA will conduct monitoring activities through a combination of office-based reviews and onsite monitoring visits. Monitoring will involve the review and analysis of the financial, programmatic, and administrative issues relative to each program and will identify areas where technical assistance and other support may be needed. The recipient is responsible for monitoring award activities, including sub-awards and sub-grantees, to provide reasonable assurance that the award is being administered in compliance with Federal requirements. Financial monitoring responsibilities include the accounting of recipients and expenditures, cash management, maintaining of adequate financial records, and refunding expenditures disallowed by audits.

Appendix 2.4 Closeout Process

Project closeout occurs when all required project work and all administrative procedures described in 49 CFR section 262.19, as applicable, have been completed, and when FRA notifies the grant recipient and forwards the final Federal assistance payment, or when FRA acknowledges the grant recipient's remittance of the proper refund. Project closeout should not invalidate any continuing obligations imposed on the Grantee by an award or by the FRA's final notification or acknowledgment. Within 90 days of the Project completion date or termination by FRA, grantees agree to submit a final Federal Financial Report (SF-425), a certification or summary of project expenses, a final report, and third party audit reports, as applicable.

Appendix 3: Additional Information on Applicant Budgets

The information contained in this appendix is intended to assist applicants with developing the SOW budget and OMB Standard Forms 424A: Budget Information—Non-Construction Programs and 424C: Budget Information—Construction Programs, as described in Section 3.3.1.

Appendix 3.1 Non-Construction Project Budgets

Applicants must present a detailed budget for the proposed project that includes both Federal funds and matching funds. Items of cost included in the budget must be reasonable, allocable, and necessary for the project. At a minimum, the budget should separate total cost of the project into the following categories and provide a basis of computation for each cost:

• Personnel: List each position by title and name of employee, if available, and show the annual salary rate and the percentage of time to be devoted to the project. Compensation paid for employees engaged in grant activities must be consistent with that paid for similar work within the applicant organization.

• Fringe Benefits: Fringe benefits should be based on actual known costs or an established formula. Fringe benefits are for personnel listed in the “Personnel” budget category and only for the percentage of time devoted to the project.

• Travel: Itemize travel expenses of project personnel by purpose (training, interviews, and meetings). Show the basis of computation (e.g., X people to Y-day training at $A airfare, $B lodging, $C subsistence).

• Equipment: List non-expendable items that are to be purchased. Nonexpendable equipment is tangible property having a useful life of more than two years and an acquisition cost of $5,000 or more per unit. (Note: Organization's own capitalization policy may be used for items costing less than $5,000.) Expendable items should be included either in the “Supplies” category or in the “Other” category. Applicants should analyze the cost benefits of purchasing versus leasing equipment, especially high cost items and those subject to rapid technical advances. Rented or leased equipment should be listed in the “Contractual” category. Explain how the equipment is necessary for the success of the project. Attach a narrative describing the procurement method to be used.

• Supplies: List items by type (office supplies, postage, training materials, copying paper, and expendable equipment items costing less than $5,000) and show the basis for computation. (Note: Organization's own capitalization policy may be used for items costing less than $5,000). Generally, supplies include any materials that are expendable or consumed during the course of the project.

• Consultants/Contracts: Indicate whether applicant's written procurement policy (see 49 CFR 18.36) or the Federal Acquisition Regulations (FAR) are followed. Consultant Fees: For each consultant enter the name, if known, service to be provided, hourly or daily fee (8-hour day), and the estimated time on the project. Consultant Expenses: List all expenses to be paid from the grant to the individual consultants in addition to their fees (travel, meals, and lodging). Contracts: Provide a description of the product or service to be procured by contract and an estimate of the cost. Applicants are encouraged to promote free and open competition in awarding contracts. A separate justification must be provided for sole source contracts in excess of $100,000.

• Other: List items (rent, reproduction, telephone, janitorial or security services) by major type and the basis of the computation. For example, provide the square footage and the cost per square foot for rent, or provide the monthly rental cost and how many months to rent.

• Indirect Costs: Indirect costs are allowed only if the applicant has a Federally-approved indirect cost rate. A copy of the rate approval (a fully executed, negotiated agreement) must be attached. If the applicant does not have an approved rate, one can be requested by contacting the applicant's cognizant Federal agency, which will review all documentation and approve a rate for the applicant organization.

Appendix 3.2 Construction Project Budgets

Applicants must present a detailed budget for the proposed project that includes both Federal funds and matching funds. Items of cost included in the budget must be reasonable, allocable, and necessary for the project. At a minimum, the budget should separate total cost of the project into the following categories and provide a basis of computation for each cost:

• Administrative and Legal Expenses: List the estimated amounts needed to cover administrative expenses. Do not include costs which are related to the normal functions of government. Allowable legal costs are generally only those associated with the purchases of land which is allowable for Federal participation and certain services in support of construction of the project. This may include:

○ Hours/Rate and total cost of local government staff

○ Hours/Rate and total cost of outside counsel fees

○ Hours/Rate and total cost of consultants

• Land, structures, rights-of-way, appraisals, and related items: List the estimate site and right(s)-of-way acquisition costs (this includes purchase, lease, and/or easements). If possible, include details of number of acres, acre cost, square-footage, and square footage cost.

• Relocation expenses and payments: List the estimated costs relation to relocation advisory assistance, replacement of housing, relocation payments to displaced persons and businesses, etc. This may include:

○ The gross salaries and wages of employees for the grantee who will be directly engaged in performing demolition or removal of structures from developed land

• Architectural and engineering fees: List the estimated basic engineering fees related to construction (this includes start-up services and preparation of project performance work plan).

• Other architectural and engineering fees: List the estimated engineering costs, such as surveys, tests, soil borings, etc.

• Project inspection fees: List the estimated engineering inspection costs. This may include:

○ Rate of project inspector

○ Construction monitoring

○ Audit or construction programs

• Site Work: List the estimated costs of site preparation and restoration which are not included in the basic construction contract. This may include:

○ Clearing

○ Erosion control

○ Reseeding

• Demolition and removal: List the estimated costs related to demolition activities.

• Construction: List the estimated cost of the construction contract. This may include costs for:

○ Labor costs, e.g., associated with site preparation and installation of grade crossings, highway warning signs, etc.

○ Equipment rental/purchase, e.g., an excavator or bulldozer

○ Materials, e.g., Rail anchors, retaining walls, etc.

• Equipment: List the estimated cost of office, shop, laboratory, safety equipment, etc. to be used at the facility, if such costs are not included in the construction contract.

• Miscellaneous: List the estimated miscellaneous costs.

• Contingencies: List the estimated contingency costs.

Issued in Washington, DC on September 7, 2010.
Mark Yachmetz,
Associate Administrator.

[FR Doc. 2010-22652 Filed 9-9-10; 8:45 am]

BILLING CODE 4910-06-P